DEPARTMENT OF TRANSPORTATION

Federal Motor Carrier Safety Administration

49 CFR Parts 380, 383, and 384

[Docket No. FMCSA-2007-27748]

RIN 2126-AB06

Minimum Training Requirements for Entry-Level Commercial Motor Vehicle Operators: Updated Information and Extension of Comment Period

AGENCY: Federal Motor Carrier Safety Administration (FMCSA), DOT.

ACTION: Proposed rule; Updated information and extension of comment period.

SUMMARY: In response to a request, the Federal Motor Carrier Safety Administration (FMCSA) extends until May 23, 2008, the comment period for its notice of proposed rulemaking (NPRM) published on December 26, 2007. FMCSA also updates information in the Paperwork Reduction Act section in the preamble to the NPRM.

DATES: Please submit comments regarding the NPRM to the docket by May 23, 2008. Please submit comments regarding updated information under the Paperwork Reduction Act by May 23, 2008.

ADDRESSES: You must submit comments, identified by Docket ID Number FMCSA-2007-27748, by one of the following methods:

• Electronically: Through the Federal Docket Management System (FDMS) at http://www.regulations.gov. Follow the instructions for submitting comments.

• Mail/Courier: U.S. Department of Transportation, Docket Management Facility, West Building Ground Floor, Room W12-140, 1200 New Jersey Ave, SE., Washington, DC 20590, between 9 a.m. and 5 p.m., e.t., Monday through Friday, except Federal holidays.

• Fax: (202) 493-2251.

• Docket: For access to the docket to read comments received and background material, go to the Federal Docket Management System (FDMS) at: http://www.regulations.gov, and search for docket ID Number FMCSA-2007-27748. Comments may also be inspected at the U.S. Department of Transportation, Docket Management Facility, West Building Ground Floor, Room W12-140, 1200 New Jersey Ave, SE., Washington, DC 20590, between 9 a.m. and 5 p.m., e.t., Monday through Friday, except Federal holidays.

• Privacy Act: Regardless of the method used for submitting comments, all comments or material will be posted without change to the FDMS, including personal information. Anyone can search the electronic form of all of our dockets in FDMS by the name of the individual submitting the document (or signing the comment, if submitted on behalf of an association, business, labor union, etc.). You may review DOT's complete Privacy Act Statement published in the Federal Register on April 11, 2000 (65 FR 19476) or you may visit http://DocketsInfo.dot.gov.

FOR FURTHER INFORMATION CONTACT: Mr. Thomas Yager, Chief, Driver and Carrier Operations Division (MC-PSD), telephone (202) 366-4325 or e-mail mcpsd@dot.gov.

SUPPLEMENTARY INFORMATION: On December 26, 2007 (72 FR 73226), FMCSA published for public comment a notice of proposed rulemaking (NPRM) concerning minimum training requirements for entry-level commercial motor vehicle operators. The original comment period for the NPRM expires on March 25, 2008. In response to a letter dated February 26, 2008 from the American Trucking Associations, FMCSA has extended the comment period, which now expires on May 23, 2008.

The FMCSA has updated the NPRM, on page 73241, second column, under the headings Respondents, Frequency, and Annual Burden Estimate, so that it reads as follows:

Respondents: The annual number of drivers providing training certificates under the current rule, which would remain in effect during the 3-year implementation period, is 32,426. The number of training institutions (public and private) that would provide training under the terms of this proposed rule is uncertain, but FMCSA estimates it to be between 200 and 500. The number of State licensing agencies is 51. The total of these three groups of potential respondents will range between 32,677 and 32,977 during the initial 3-year implementation period.

Frequency: Information would not be collected with any specific frequency during the 3-year life of the information collection. The initial burdens on training institutions and SDLAs will be limited to startup activities.

“Annual Burden Estimate: This proposal would result in an annual recordkeeping and reporting burden estimated to be 134,990 hours, calculated as follows:

Entry-level CDL drivers after the first year under the currently approved information collection incur a burden of 5,400 hours, and this burden would remain in effect until OMB approval of a pending revision of the information collection. In addition, during the 3-year phase-in period the CDL-training institutions would incur an estimated burden of 125,000 hours to revise their processes to conform to the requirements of this rule. During the same period, State driver-licensing agencies would incur a burden of 4,590 hours to modify their systems. The total proposed annual burden is 134,990 hours (5,400 + 125,000 + 4,590).

Following the 3-year implementation period, calculation of the PRA burden would be revised by FMCSA because the rule would be fully operational.

“FMCSA has submitted this NPRM and a supporting statement to OMB, estimating the paperwork burdens of this proposal. The Agency is soliciting comments to—

(1) Evaluate whether the proposed information requirement is necessary for the proper performance of the functions of the Agency, including whether the information will have practical utility,

(2) Evaluate the accuracy of the Agency's estimate of the burden,

(3) Enhance the quality, utility, and clarity of the information to be collected, and

(4) Minimize the burden of the collection of information on those who are to respond, including the use of appropriate automated, electronic, mechanical, or other technological collection techniques or other forms of information technology. You may submit comments on the PRA aspects of this proposed rule directly to OMB. The deadline for such submissions is May 23, 2008. You must mail or hand-deliver your comments to:

Attention: Desk Officer for the Department of Transportation, Docket Library, Office of Information and Regulatory Affairs, Office of Management and Budget, Room 10102, 725 17th Street, NW., Washington, DC 20503.”

Issued on: March 19, 2008.
David H. Hugel,
Deputy Administrator.

[FR Doc. E8-5905 Filed 3-21-08; 8:45 am]

BILLING CODE 4910-EX-P